DEPARTMENT OF THE INTERIOR

Geological Survey

[GX17AE6000C1000]

Intent To Grant Exclusive Patent License to Montana Emergent Technologies

AGENCY: U.S. Geological Survey, Department of the Interior.

ACTION: Notice of intent to grant exclusive patent license; request for comments.

SUMMARY: The U.S. Geological Survey (USGS), Department of the Interior, is contemplating the grant of an exclusive license in the United States of America, its territories, possessions and commonwealths, to USGS's interest in the invention embodied in U.S. Provisional Application No. 62/333,616, titled “Subsurface Environment Sampler,” to Montana Emergent Technologies (MET). USGS requests public comments on or objections to the proposed grant.

DATES: Comments or objections must be received by December 29, 2017.

ADDRESSES: Written comments or objections relating to the prospective license may be submitted by U.S. mail, facsimile, or email to James Mitchell, Patent and Licensing Manager, Office of Policy and Analysis, USGS, 12201 Sunrise Valley Drive, MS 153, Reston, VA 20192, (703) 648-4688 (fax); jmmitchell@usgs.gov. Information relating to the prospective license will be available at this address during regular business hours, Monday through Friday, except Federal holidays. Information about other USGS inventions available for licensing can be found online at https://www2.usgs.gov/tech-transfer/available_patents.html.

FOR FURTHER INFORMATION CONTACT: James Mitchell, Patent and Licensing Manager, Office of Policy and Analysis, USGS, 12201 Sunrise Valley Drive, MS 153, Reston, VA 20192, (703) 648-4344 (phone), (703) 648-4688 (fax); jmmitchell@usgs.gov. Persons who use a telecommunications device for the deaf (TDD) may call the Federal Relay Service (FRS) at 1-800-877-8339 to contact the above individual during normal business hours. The Service is available 24 hours a day, 7 days a week, to leave a message or question with the above individual. You will receive a reply during normal business hours.

SUPPLEMENTARY INFORMATION: The prospective exclusive license will be royalty bearing and will comply with the terms and conditions of 35 U.S.C. 209 and 37 CFR 404.7. The prospective exclusive license may be granted unless, within fifteen (15) days from the date of this published Notice, USGS receives written evidence and argument which establish that the grant of the license would not be consistent with the requirements of 35 U.S.C. 209 and 37 CFR 404.7. The Provisional Patent Application was filed on March 9, 2016 and describes product sampler and methods for testing subsurface environment.

Before including your address, phone number, email address, or other personal identifying information in your comment, you should be aware that your entire comment—including your personal identifying information—may be made publicly available at any time. While you can ask us in your comment to withhold your personal identifying information from public review, we cannot guarantee that we will be able to do so.

Authority: 35 U.S.C. 209.

Katherine McCulloch,
Deputy Associate Director for the Office for Administration.

[FR Doc. 2017-26959 Filed 12-13-17; 8:45 am]

BILLING CODE 4338-11-P